DEPARTMENT OF LABOR

Workforce Investment Act of 1998 (WIA); Notice of Incentive Funding Availability for Program Year (PY) 2005 Performance

AGENCY: Employment and Training Administration, Labor.

ACTION: Notice.

SUMMARY: The Department of Labor, in collaboration with the Department of Education, announces that nine states are eligible to apply for Workforce Investment Act (WIA) (Pub. L. 105-220, 29 U.S.C. 2801 et seq.) incentive awards under the WIA Regulations.

DATES: The nine eligible states must submit their applications for incentive funding to the Department of Labor by June 14, 2007.

ADDRESSES: Submit applications to the Employment and Training Administration, Office of Performance and Technology, 200 Constitution Avenue, NW., Room S-5206, Washington, DC 20210, Attention: Karen Staha and Traci DiMartini, Telephone number: 202-693-3698 (this is not a toll-free number). Fax: 202-693-3490. E-mail: staha.karen@dol.gov and dimartini.traci@dol.gov. Information may also be found at the ETA Performance Web site: http://www.doleta.gov/performance.

SUPPLEMENTARY INFORMATION: Nine (9) states (see Appendix) qualify to receive a share of the $16.3 million available for incentive grant awards under WIA section 503. These funds, which were contributed by the Department of Education from appropriations for the Adult Education and Family Literacy Act and the Carl D. Perkins Vocational and Technical Education Act, are available for the eligible states to use through June 30, 2009, to support innovative workforce development and education activities that are authorized under title I (Workforce Investment Systems) or title II (the Adult Education and Family Literacy Act (AEFLA)) of WIA, or under the Perkins Act (Pub. L. 105-332, 20 U.S.C. 2301 et seq.). In order to qualify for a grant award, a state must have exceeded performance levels agreed to by the Secretaries, Governor, and State Education Officer for outcomes in WIA title I, adult education (AEFLA), and vocational education (Perkins Act) programs. The goals included placement after training, retention in employment, and improvements in literacy levels, among other measures. After review of the performance data submitted by states to the Department of Labor and to the Department of Education, each Department determined which States would qualify for incentives for its programs (the Appendix at the bottom of this notice details the eligibility of each State by program). These lists of eligible States were compared, and States that qualified under all three programs are eligible to apply for and receive an incentive grant award. The amount that each state is eligible to receive was determined by the Department of Labor and the Department of Education and is based on WIA section 503(c) (20 U.S.C. 9273(c)), and is proportional to the total funding received by these States for the three Acts.

The states eligible to apply for incentive grant awards and the amounts they are eligible to receive are listed in the following chart:

State | Amount of award
1. Arizona | $1,724,063
2. Delaware | 967,758
3. Illinois | 3,000,000
4. Iowa | 1,190,729
5. Massachusetts | 1,752,678
6. Missouri | 1,922,350
7. Oregon | 1,781,694
8. Tennessee | 2,096,895
9. Virginia | 1,917,021

Dated: April 24, 2007.
Emily Stover DeRocco,
Assistant Secretary for Employment and Training.

APPENDIX

BILLING CODE 4510-FN-P

[FR Doc. E7-8221 Filed 4-27-07; 8:45 am]

BILLING CODE 4510-FN-C